DEPARTMENT OF INTERIOR

National Park Service

[PPSESEROC3, PPMPSAS1Y.YP0000; NPS-SERO-BISO-021991]

Assessment of Eligible and Ineligible Lands for Consideration as Wilderness Areas: Big South Fork National River and Recreation Area and Obed Wild and Scenic River

AGENCY: National Park Service, Interior.

ACTION: Notice of Intent.

SUMMARY: The National Park Service (NPS) intends to assess lands within the authorized boundaries of Big South Fork National River and Recreation Area and Obed Wild and Scenic River for wilderness eligibility.

DATES: It is anticipated that the assessments for both parks will be completed by October 1, 2017.

ADDRESSES: Interested individuals, organizations, and agencies are encouraged to provide written comments or suggestions to assist the NPS in determining the scope of issues related to the eligibility of land considered as wilderness at Big South Fork National River Recreational Area and Obed Wild and Scenic River. Written comments may be sent to: Superintendent, 4564 Leatherwood Road, Oneida, Tennessee 37841.

FOR FURTHER INFORMATION CONTACT: Suggestions, comments, and requests for further information should be directed to Big South Fork National River and Recreation Area Superintendent Niki Stephanie Nicholas, by phone at 423-569-9778, via email at BISO_Superintendent@nps.gov, or by mail at Big South Fork National River and Recreation Area, 4564 Leatherwood Road, Oneida, Tennessee 37841.

SUPPLEMENTARY INFORMATION: Pursuant to the Wilderness Act of 1964, and in accordance with NPS Management Policies (2006), Section 6.2.1, the NPS intends to assess all lands within the authorized boundaries of Big South Fork National River and Recreation Area and Obed Wild & Scenic River for wilderness eligibility. A determination of eligibility and subsequent future actions will be announced in the Federal Register upon completion of the assessment.

Dated: December 7, 2016.
Barclay C. Trimble,
Deputy Regional Director, Southeast Region.

[FR Doc. 2016-30635 Filed 12-19-16; 8:45 am]

BILLING CODE 4312-52-P